DEPARTMENT OF TRANSPORTATION

Federal Aviation Administration

14 CFR Part 39

[Docket No. 97-NM-187-AD; Amendment 39-12580; AD 2001-26-14]

RIN 2120-AA64

Airworthiness Directives; Dornier Model 328 Series Airplanes Equipped With Honeywell GP-300 Guidance and Display Controller

AGENCY: Federal Aviation Administration, DOT.

ACTION: Final rule.

SUMMARY: This amendment supersedes an existing airworthiness directive (AD), applicable to certain Dornier Model 328 series airplanes, that currently requires modification of certain Honeywell GP-300 guidance and display controllers. That AD was prompted by reports of smoke and fumes emitting from the Honeywell GP-300 guidance and display controller due to a defective light bulb; and a report of failure of the autopilot to disconnect manually. The actions specified by this AD are intended to prevent a defective light bulb from causing a short circuit that emits smoke and fumes into the cockpit; or causing damage to the circuit cards and various components, which may lock the autopilot into the engaged mode. Locking of the autopilot into the engaged mode could lead to the inability of the pilot to disconnect the autopilot, which could result in reduced controllability of the airplane. This amendment requires verification of proper installation of the modification, and repair, if necessary.

DATES: Effective February 8, 2002.

The incorporation by reference of Honeywell Service Bulletin 7015327-22-4, dated March 31, 1997, as listed in the regulations, is approved by the Director of the Federal Register as of February 8, 2002.

The incorporation by reference of Honeywell Service Bulletin 7015327-22-2, dated March 4, 1996, as listed in the regulations, was approved previously by the Director of the Federal Register as of June 26, 1996 (61 FR 29465, June 11, 1996).

ADDRESSES: The service information referenced in this AD may be obtained from Honeywell, Inc., Attn: Customer Support Materiel, PO Box 21111, Phoenix, Arizona 85036. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 96-12-13, amendment 39-9656 (61 FR 29465, June 11, 1996), which is applicable to certain Dornier Model 328 series airplanes, was published in the Federal Register on May 28, 1998 (63 FR 29148). The action proposed to continue to require modification of certain Honeywell GP-300 guidance and display controllers. The action also proposed to require verification of proper installation of the modification of Honeywell GP-300 guidance and display controller, and repair, if necessary.

Comment Received

Interested persons have been afforded an opportunity to participate in the making of this amendment. Due consideration has been given to the comment received.

One commenter, the airplane manufacturer, claims that 100 percent of Honeywell GP-300 guidance and display controllers for Dornier Model 328 series airplanes have been modified per paragraph (a) of the proposed AD. The commenter also claims that 98 percent of those controllers have been modified per paragraph (b) of the proposed AD, and that the four remaining controllers should be modified by the time the proposed AD becomes effective. Therefore, the commenter concludes that the proposed AD would pose a negative economic impact by creating unnecessary paperwork and sign-off of the proposed AD.

From this comment, the FAA infers that the commenter is requesting that the proposed AD be withdrawn. We do not agree. As stated by the airplane manufacturer, not all of the affected controllers, worldwide, have been modified; therefore, the possibility exists that an unmodified controller could be installed on a U.S. registered airplane at some future time. Issuance of this AD will ensure that only the modified controllers are installed on U.S. registered airplanes. Operators are given credit for work previously performed by means of the phrase in the “Compliance” section of the AD that states, “Required as indicated, unless accomplished previously.” Therefore, in the case of this AD, if the required modification and verification have been accomplished before the effective date of this AD, this AD does not require that those actions be repeated.

Conclusion

After careful review of the available data, including the comment noted above, the FAA has determined that air safety and the public interest require the adoption of the rule as proposed.

Cost Impact

There are approximately 50 Dornier Model 328-100 series airplanes of U.S. registry that will be affected by this AD.

The actions that are currently required by AD 96-12-13, and retained in this AD, take approximately 7 work hours per airplane to accomplish, at an average labor rate of $60 per work hour. Required parts will be provided by the manufacturer at no cost to the operators. Based on these figures, the cost impact of the currently required actions on U.S. operators is estimated to be $21,000, or $420 per airplane.

The new actions that are required by this AD action will take approximately 4 work hours per airplane to accomplish, at an average labor rate of $60 per work hour. Based on these figures, the cost impact of the new requirements of this AD on U.S. operators is estimated to be $12,000, or $240 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9656 (61 FR 29465, June 11, 1996), and by adding a new airworthiness directive (AD), amendment 39-12580, to read as follows:

2001-26-14 Dornier Luftfahrt GMBH: Amendment 39-12580. Docket 97-NM-187-AD. Supersedes AD 96-12-13, Amendment 39-9656.

Applicability: Model 328-100 airplanes, equipped with a Honeywell GP-300 guidance and display controller having part number (P/N) 7015327-901 or -902; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent a defective light bulb from causing a short circuit that emits smoke and fumes into the cockpit, or causing damage to the circuit cards and various components, which may lock the autopilot into the engaged mode, accomplish the following:

Restatement of Requirements of AD 96-12-13

(a) Within 60 days after June 26, 1996 (the effective date of AD 96-12-13, amendment 39-9656), modify the Honeywell GP-300 guidance and display controller, having P/N 7015327-901 or -902, in accordance with Honeywell Service Bulletin 7015327-22-2, dated March 4, 1996.

New Requirements of This AD

(b) Within 60 days after the effective date of this AD, verify that the wiring of the Honeywell GP-300 guidance and display controller is correct by conducting a re-test of the circuit card assemblies, in accordance with Honeywell Service Bulletin 7015327-22-4, dated March 31, 1997. If any discrepancy is found, prior to further flight, repair in accordance with the service bulletin.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Honeywell Service Bulletin 7015327-22-2, dated March 4, 1996; and Honeywell Service Bulletin 7015327-22-4, dated March 31, 1997.

(1) The incorporation by reference of Honeywell Service Bulletin 7015327-22-4, dated March 31, 1997, is approved by the Director of the Federal Register in accordance with 5 U.S.C. 552(a) and 1 CFR part 51.

(2) The incorporation by reference of Honeywell Service Bulletin 7015327-22-2, dated March 4, 1996, was approved previously by the Director of the Federal Register as of June 26, 1996 (61 FR 29465, June 11, 1996).

(3) Copies may be obtained from Honeywell, Inc., Attn: Customer Support Materiel, PO Box 21111, Phoenix, Arizona 85036. Copies may be inspected at the FAA, Transport Airplane Directorate, 1601 Lind Avenue, SW., Renton, Washington; or at the Office of the Federal Register, 800 North Capitol Street, NW., suite 700, Washington, DC.

Note 3: The subject of this AD is addressed in German airworthiness directive 96-239/2, dated June 19, 1997.

Effective Date

(f) This amendment becomes effective on February 8, 2002.

Issued in Renton, Washington, on December 21, 2001.
Ali Bahrami,
Acting Manager, Transport Airplane Directorate, Aircraft Certification Service.

[FR Doc. 02-143 Filed 1-3-02; 8:45 am]

BILLING CODE 4910-13-P